DEPARTMENT OF ENERGY

Federal Energy Regulatory Commission

[Docket No. CP25-60-000]

Mountain Valley Pipeline, LLC; Notice Of Schedule For The Preparation Of An Environmental Assessment For The Proposed Mountain Valley Pipeline Southgate Amendment Project

On February 3, 2025, Mountain Valley Pipeline, LLC filed an application in Docket No. CP25-60-000 requesting a Certificate of Public Convenience and Necessity pursuant to Section 7(c) of the Natural Gas Act, and Part 157 of the Commission's regulations to amend Mountain Valley's certificate of public convenience and necessity for the Southgate Project authorized by the Commission in Docket No. CP19-14-000.¹ The amended project known as the Mountain Valley Pipeline (MVP) Southgate Amendment Project (Amendment Project) would increase the operating capacity from 375,000 dekatherms per day (Dth/d) to 550,000 Dth/d.

¹ Mountain Valley Pipeline, LLC, 171 FERC ¶ 61,232 (2020).

On February 18, 2025, the Federal Energy Regulatory Commission (Commission or FERC) issued its Notice of Application for the Amendment Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.² The EA will be issued for a 30-day comment period.

² For tracking purposes under the National Environmental Policy Act, the unique identification number for documents relating to this environmental review is EAXX-019-20-000-1751374027.

Schedule for Environmental Review

Issuance of EA—October 3, 2025

90-day Federal Authorization Decision Deadline ³—January 1, 2026

³ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

In February 2020, FERC issued a final Environmental Impact Statement (EIS) that analyzed the Southgate Project. On June 18, 2020, the Commission authorized the Southgate Project. MVP further evaluated the Southgate Project and proposes modifications as part of the Amendment Project.⁴

⁴ Construction of the Southgate Project has not yet started.

The Amendment Project includes modifications to the previously authorized Southgate Project and would originate at Transcontinental Gas Pipe Line Company, LLC's Zone 5 Compressor Station 165 in Pittsylvania County, Virginia and end in Rockingham County, North Carolina. The Amendment Project would remove the Lambert Compressor Station, decrease the length of the pipeline from 75.1 miles to 31.3 miles, increase the pipeline diameter from 16- and 24-inch diameters to 30-inch diameter, change the location of two meter (interconnect) stations, adopt several route variations for engineering and environmental reasons, remove four mainline valves, remove two cathodic protection groundbeds, and add two new contractor yards.

Background

On May 22, 2025, the Commission issued a Notice of Scoping Period Requesting Comments on Environmental Issues for the Proposed Mountain Valley Pipeline Southgate Amendment Project and Notice of Public Scoping Session (Notice of Scoping). The Notice of Scoping was sent to affected landowners; federal, state, and local government agencies; elected officials; environmental and public interest groups; Native American tribes; other interested parties; and local libraries and newspapers. In response to the Notice of Scoping, the Commission received comments from multiple stakeholders including the Virginia Department of Environmental Quality; the Commonwealth of Virginia Department of Conservation and Recreation—Division of Natural Heritage; the North Carolina State Historic Preservation Office; Transcontinental Gas Pipe Line Company, LLC; Appalachian Voices; a joint filing from Appalachian Voices, Blue Ridge Environmental Defense League, Center for Biological Diversity, Chesapeake Climate Action Network, 7 Directions of Service, Sierra Club, Southern Alliance for Clean Energy, Wild Virginia, Katie Whitehead, and Robert McNutt; Virginia Scientist Community Interface; Chesapeake Climate Action Network; Southern Environmental Law Center; and 20 individuals.

The primary issues raised by the commenters are concerns regarding groundwater, waterbodies, wetlands, threatened and endangered species, forested areas, cumulative impacts, air emissions, and pipeline safety associated with the increased diameter and capacity. All substantive environmental comments will be addressed in the EA.

The U.S. Fish and Wildlife Service's Virginia and North Carolina Ecological Services Field Offices are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-60), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 3, 2025.
Debbie-Anne A. Reese,
Secretary.

[FR Doc. 2025-12759 Filed 7-8-25; 8:45 am]

BILLING CODE 6717-01-P